DEPARTMENT OF AGRICULTURE

Federal Crop Insurance Corporation

7 CFR Part 457

Common Crop Insurance Regulations; Forage Seeding Crop Provisions

AGENCY: Federal Crop Insurance Corporation, USDA.

ACTION: Proposed rule with request for comments.

SUMMARY: The Federal Crop Insurance Corporation (FCIC) proposes to amend the Forage Seeding Crop Insurance Provisions. The intended effect of this proposed action is to provide policy changes to better meet the needs of the insureds and to restrict the effect of the current Forage Seeding Crop Insurance Regulations to the 2001 and prior crop years.

DATES: Written comments and opinions on this proposed rule will be accepted until close of business October 25, 2000, and will be considered when the rule is to be made final. The comment period for information collection under the Paperwork Reduction Act of 1995 continues through November 24, 2000.

ADDRESSES: Interested persons are invited to submit written comments to the Director, Product Development Division, Federal Crop Insurance Corporation, United States Department of Agriculture, 6501 Beacon Drive, Kansas City, Mo 64133. Comments may be sent via Internet to “DIRECTOR PDD@RM.FCIC.USDA.GOV”. A copy of each response will be available for public inspection and copying from 7 a.m. to 4:30 p.m., CDT, Monday through Friday except holidays, at the above address.

FOR FURTHER INFORMATION CONTACT: Arden Routh, Insurance Management Specialist, Research and Development, Product Development Division, Federal Crop Insurance Corporation, at the Kansas City, MO, address listed above, telephone (816) 926-7730.

SUPPLEMENTARY INFORMATION:

Executive Order 12866

This rule has been determined to be exempt for the purpose of Executive Order 12866 and, therefore, has not been reviewed by the Office of Management and Budget (OMB).

Paperwork Reduction Act of 1995

Under the provisions of the Paperwork Reduction Act of 1995 (44 U.S.C. chapter 35), the collections of information for this rule have been previously approved by OMB under control number 0563-0053 through April 30, 2001.

Unfunded Mandates Reform Act of 1995

Title II of the Unfunded Mandates Reform Act of 1995 (UMRA) establishes requirements for Federal agencies to assess the effects of their regulatory actions on State, local, and tribal governments and the private sector. This rule contains no Federal mandates (under the regulatory provisions of title II of the UMRA) for State, local, and tribal governments or the private sector. Therefore, this rule is not subject to the requirements of sections 202 and 205 of the UMRA.

Executive Order 13132

The provisions contained in this rule will not have a substantial direct effect on States, the relationship between the national government and the States, or on the distribution of power and responsibilities among various levels of government. Therefore, no consultation with states is required.

Regulatory Flexibility Act

This regulation will not have a significant economic impact on a substantial number of small entities. New provisions included in this rule will not impact small entities to a greater extent than large entities. Under the current regulations, every producer is required to complete an application and acreage report. If the crop is damaged or destroyed, the producer is required to give notice of loss and provide the necessary information to complete a claim for indemnity. This regulation does not alter those requirements. The amount of work required of the insurance companies delivering and servicing these policies will not increase significantly from the amount of work currently required. Therefore, this action is determined to be exempt from the provisions of the Regulatory Flexibility Act (5 U.S.C. 605), and no Regulatory Flexibility Analysis was prepared.

Federal Assistance Program

This program is listed in the Catalog of Federal Domestic Assistance under No. 10.450.

Executive Order 12372

This program is not subject to the provisions of Executive Order 12372, which requires intergovernmental consultation with State and local officials. See the Notice related to 7 CFR part 3015, subpart V, published at 48 FR 29115, June 24, 1983.

Executive Order 12988

This proposed rule has been reviewed in accordance with Executive Order 12988 on civil justice reform. The provisions of this rule will not have a retroactive effect. The provisions of this rule will preempt State and local laws to the extent such State and local laws are inconsistent herewith. The administrative appeal provisions published at 7 CFR part 11 must be exhausted before any action against FCIC for judicial review may be brought.

Environmental Evaluation

This action is not expected to have a significant economic impact on the quality of the human environment, health, and safety. Therefore, neither an Environmental Assessment nor an Environmental Impact Statement is needed.

Background

FCIC proposes to amend the Common Crop Insurance Regulations (7 CFR Part 457) by amending 7 CFR 457.151 Forage Seeding Crop Insurance Provisions effective for the 2002 and succeeding crop years. The changes to provisions for insuring forage seeding are as follows:

1. Section 4—Add a new contract change date for South Dakota counties where the Special Provisions designate both fall and spring final planting dates. This allows for a separation of policies and program changes to be made to each policy in a timely manner.

2. Section 5—Add cancellation and termination dates for South Dakota counties that will be applicable when the Special Provisions designate both fall and spring final planting dates. This is necessary to allow for the separate insurance of fall and spring planted forage.

3. Section 9(g)—Add end of insurance period dates for fall and spring planted acreage in California, Colorado, Idaho, Nebraska, Nevada, Oregon, Utah and Washington. This allows forage acreage to be insured continuously with no lapse, or overlap, in coverage between the end of insurance period under the Forage Seeding Crop Provisions and the beginning of the insurance period under the Forage Production Crop Provisions.

List of Subjects in 7 CFR Part 457

Crop insurance, Forage seeding, Reporting and recordkeeping requirements.

Proposed Rule

Accordingly, as set forth in the preamble, the Federal Crop Insurance Corporation proposes to amend 7 CFR part 457 as follows:

PART 457—COMMON CROP INSURANCE REGULATIONS

1. The authority citation for 7 CFR part 457 continues to read as follows:

Authority: 7 U.S.C. 1506(1), 1506(p).

2. Amend 457.151 as follows:

a. Revise the heading.

b. Revise the introductory text.

c. Revise section 4 of the crop provisions.

d. Revise section 5 of the crop provisions.

e. Revise Section 9(g) of the crop provisions.

The revisions and additions to § 457.151 and the crop provisions read as follows:

§ 457.151 Forage seeding crop insurance provisions.

The Forage Seeding Crop Insurance Provisions for the 2002 and succeeding crop years are as follows:

* * * * *

4. Contract Changes.

In accordance with section 4 of the Basic Provisions, the contract change date is June 30 preceding the cancellation date for counties with a September 30 cancellation date; November 30 preceding the cancellation date for counties with a March 15 cancellation date; and April 30 preceding the cancellation date for all other counties.

5. Cancellation and Termination Dates.

In accordance with section 2 of the Basic Provisions, the cancellation and termination dates are:

State and county | Cancellation and termination dates
California, Nevada, New Hampshire, New York, Pennsylvania and Vermont | July 31
South Dakota counties for which the Special Provisions designate both fall and spring final planting dates | September 30
South Dakota counties for which the Special Provisions designate only a spring final planting date, and all other states | March 15

* * * * *

9. Insurance Period.

* * * * *

(g) The following calendar dates:

(1) During the calendar year following the year of seeding for:

(i) Fall planted acreage in all California counties except Lassen, Modoc, Mono, Shasta and Siskiyou_November 30;

(ii) Spring planted acreage in Lassen, Modoc, Mono, Shasta and Siskiyou Counties California, Colorado, Idaho, Nebraska, Nevada, Oregon, Utah and Washington_April 14;

(iii) Spring planted acreage in all other states_May 21;

(iv) Fall planted acreage in Lassen, Modoc, Mono, Shasta and Siskiyou Counties California and all other states_October 15;

(2) During the calendar year of seeding for spring planted acreage in all California counties except Lassen, Modoc, Mono, Shasta and Siskiyou_November 30.

* * * * *

Signed in Washington, DC on September 13, 2000.
Kenneth D. Ackerman,
Manager, Federal Crop Insurance Corporation.

[FR Doc. 00-24504 Filed 9-22-00; 8:45 am]

BILLING CODE 3410-08-P